DEPARTMENT OF LABOR

Employment and Training Administration

[TA-W-56,773]

Ruskin Company; Clayton, OH; Notice of Termination of Investigation

Pursuant to Section 221 of the Trade Act of 1974, an investigation was initiated on March 16, 2005 in response to a petition filed by a company official and the United Steel Workers Union, Local 4545 on behalf of workers at Ruskin Company, Clayton, Ohio.

The petitioners have requested that the petition be withdrawn. Consequently, the investigation has been terminated.

Signed in Washington, DC, this 25th day of March 2005.
Elliott S. Kushner,
Certifying Officer, Division of Trade Adjustment Assistance.

[FR Doc. E5-1528 Filed 4-4-05; 8:45 am]

BILLING CODE 4510-30-P